DEPARTMENT OF STATE

[Public Notice:12496]

Notice of Public Meeting in Preparation for International Maritime Organization Tenth Session of the Sub-Committee on Carriage of Cargoes and Containers (CCC) Meeting

The Department of State will conduct a public meeting at 12:00 p.m. on Wednesday, September 04, 2024, both in-person at Coast Guard Headquarters in Washington, DC, and via teleconference. The primary purpose of the meeting is to prepare for the 10th session of the International Maritime Organization's (IMO) Sub-committee on Carriage of Cargoes and Containers (CCC) to be held at IMO Headquarters in London, United Kingdom from Monday, September 16 to Friday, September 20, 2024.

Members of the public may participate up to the capacity of the teleconference phone line, which can handle 500 participants or up to the seating capacity of the room if attending in person. The meeting location will be the United States Coast Guard Headquarters, and the teleconference line will be provided to those who RSVP. To RSVP, participants should contact the meeting coordinator, LT Joseph Kolb, by email at Joseph.B.Kolb2@uscg.mil. LT Kolb will provide access information for in-person and virtual attendance.

The agenda items to be considered at CCC 10 include:

—Adoption of the agenda

—Decisions of other IMO bodies

—Amendments to the IGF Code and development of guidelines for alternative fuels and related technologies (2.3)

—Review of the IGC Code (1.17)

—Amendments to the IMSBC Code and supplements (7.13)

—Amendments to the IMDG Code and supplements (7.10)

—Revision of the Revised guidelines for the preparation of the Cargo Securing Manual (MSC.1/Circ.1353/Rev.2) to include a harmonized performance standard for lashing software to permit lashing software as a supplement to the Cargo Securing Manual (7.40)

—Revision of the Revised recommendations for entering enclosed spaces aboard ships (resolution A.1050(27)) (6.23)

—Consideration of reports of incidents involving dangerous goods or marine pollutants in packaged form on board ships or in port areas (7.28)

—Unified interpretation of provisions of IMO safety, security, and environment-related conventions (7.1)

—Development of measures to prevent the loss of containers at sea (7.20)

—Biennial status report and provisional agenda for CCC 11

—Election of the Chair and Vice-Chair for 2025

—Revision of the Interim recommendations for carriage of liquefied hydrogen in bulk (2.25)

—Any other business

—Report to the Committees

Please note: The IMO may, on short notice, adjust the CCC 10 agenda to accommodate the constraints associated with the virtual meeting format. Any changes to the agenda will be reported to those who RSVP.

Those who plan to participate should contact the meeting coordinator, LT Joseph Kolb, by email at Joseph.B.Kolb2@uscg.mil, or in writing at United States Coast Guard, Hazardous Materials Division (CG-ENG-5), ATTN: LT Joseph Kolb, 2703 Martin Luther King Jr. Ave. SE, Stop 7509, Washington, DC 20593-7509, by August 28, 2024.

Please note that, due to security considerations, two valid, government issued photo identifications must be presented to gain entrance to the Douglas A. Munro Coast Guard Headquarters Building at St. Elizabeth's. This building is accessible by taxi, public transportation, and privately owned conveyance (upon request). Additionally, members of the public needing reasonable accommodation should advise the meeting coordinator not later than August 28, 2024. Requests made after that date will be considered but might not be possible to fulfill.

Additional information regarding this and other IMO public meetings may be found at: https://www.dco.uscg.mil/IMO.

(Authority: 22 U.S.C. 2656 and 5 U.S.C. 552)

Leslie W. Hunt,
Coast Guard Liaison Officer, Office of Ocean and Polar Affairs, Department of State.

[FR Doc. 2024-18569 Filed 8-19-24; 8:45 am]

BILLING CODE 4710-09-P